OCCUPATIONAL SAFETY AND HEALTH REVIEW COMMISSION

Solicitation of Public Comments on Proposed Information Quality Guidelines

AGENCY: Occupational Safety and Health Review Commission.

ACTION: Notice of guidelines and solicitation of public comments.

Authority: Section 515 of the Treasury and General Government Appropriations Act for Fiscal Year 2001 (Pub. L. 106-554; 114 Stat. 2763).

SUMMARY: The Occupational Safety and Health Review Commission (Review Commission) is soliciting comments on its information quality guidelines. Pursuant to Office of Management and Budget Final Guidelines issued on February 22, 2002 (67 FR 8452-8460), the Review Commission has drafted proposed information quality guidelines to ensure and maximize the quality, objectivity, utility, and integrity of information that is disseminated by the agency to the public. The proposed guidelines also provide an administrative process allowing affected individuals to seek and obtain correction of information maintained and disseminated by the Review Commission that does not comply with OMB guidelines. The purpose of this notice is to solicit public comment on the Review Commission's proposed information quality guidelines to help the Review Commission develop and finalize the guidelines. The proposed guidelines are posted on the Review Commission's Web site, http://www.oshrc.gov/quality/quality.html.

DATES: Writtens comments regarding the Review Commission's Information Quality Guidelines are due by May 31, 2002.

ADDRESSES: Send written comments to Linda Whitsett, Public Information Officer, One Lafayette Centre, 1120 20th St., NW., 9th Floor, Washington, DC 20036-3419.

FOR FURTHER INFORMATION CONTACT: Linda Whitsett, Public Information Officer, One Lafayette Centre, 1120 20th St., NW., 9th Floor, Washington, DC 20036-3419, phone (202) 606-5410, extension 215.

Dated: April 26, 2002.
Patricia A. Randle,
Executive Director.

[FR Doc. 02-10967 Filed 5-2-02; 8:45 am]

BILLING CODE 7600-01-M